DEPARTMENT OF JUSTICE

Federal Bureau of Investigation

Agency Information Collection Actitivities: New Collection, Comment Request

ACTION: Notice of Information Collection Under Review; New Collection: Electronic Access Survey.

The Department of Justice (DOJ), Federal Bureau of Investigation (FBI) has submitted the following information collection request to the Office of Management and Budget (OMB) for review and approval in accordance with the emergency review procedures of the Paperwork Reduction Act of 1995. The proposed information collection is published to obtain comments from the public and affected agencies. Emergency review and approval of this collection has been requested from the OMB by June 21, 2000. If granted, this emergency approval is only valid for 180 days. Comments should be directed to Office of Management and Budget, Office of Information and Regulatory Affairs, Attn: Department of Justice Desk Officer, Washington, DC 20530.

During the first 60 days of this same period a regular review of this collection is also being undertaken. Public comments are encouraged and will be accepted until August 22, 2000. Written comment and suggestions from the public and affected agencies concerning the proposed collection of information are encouraged. Your comments should address one or more of the following four points:

(1) Evaluate whether the proposed collection of information is necessary for the proper performance of the function of the agency, including whether the information will have practical utility:

(2) Evaluate the accuracy of the agencies estimate of the burden of the proposed collection of the information, including the validity of the methodology and assumptions used;

(3) Enhance the quality, utility, and clarity of the information to be collected; and

(4) Minimize the burden of the collection of information on those who are to respond, including through the use of appropriate automated, electronic, mechanical, or other technological collection techniques or other forms of information technology. Comments and/or suggestions regarding the item(s) contained in this notice, especially regarding the estimated public burden and associated response time should be directed to Penny Alfred, Program Analyst, Federal Bureau of Investigation, CJIS Division, Module A-3, 1000 Custer Hollow Road, Clarksburg, West Virginia 26306, (304) 625-7387.

Overview of this information collection:

(1) Type of Information Collection: New data collection.

(2) Title of the Form: Electronic Access Survey.

(3) Agency form number, if any, and the applicable component of the Department of Justice sponsoring the collection: Form: None. Criminal Justice Information Services Division, Federal Bureau of Investigation, Department of Justice.

(4) Affected public who will be asked or required to respond, as well as a brief abstract: Primary: Business or other for-profit (Federally licensed firearms dealers, manufacturers, or importers).

Brief Abstract: The Brady Handgun Violence Prevention Act of 1994, requires the Attorney General to establish a national instant criminal background check system that any Federal Firearm Licensee may contact, by telephone or by the electronic means in addition to the telephone, for information, to be supplied immediately, on whether receipt of a firearm to a prospective purchaser would violate federal or state law.

(5) An estimate of the total number of respondents and the amount of time estimated for an average respondent to respond: 38,250 Federal Firearms Licensee at an average of 3 minutes to respond.

(6) An estimate of the total public burden (in hours) associated with the collection: Approximately 637.50 burden hours.

If additional information is required contact: Mr. Robert B. Briggs, Clearance Officer, United States Department of Justice, Information Management and Security Staff, Justice Management Division, 1001 G Street NW, Suite 850, Washington, DC 20530.

Dated: June 19, 2000.
Robert B. Briggs,
Department Clearance Officer, United States Department of Justice.

[FR Doc. 00-15887 Filed 6-22-00; 8:45 am]

BILLING CODE 4410-02-M